NUCLEAR REGULATORY COMMISSION

[NRC-2020-0084]

Biweekly Notice; Applications and Amendments to Facility Operating Licenses and Combined Licenses Involving No Significant Hazards Considerations

AGENCY: Nuclear Regulatory Commission.

ACTION: Biweekly notice.

SUMMARY: Pursuant to section 189.a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person. This biweekly notice includes all amendments issued, or proposed to be issued, from approximately March 10, 2020, to March 23, 2020. The last biweekly notice was published on March 24, 2020.

DATES: Comments must be filed by May 7, 2020. A request for a hearing or petitions for leave to intervene must be filed by June 8, 2020.

ADDRESSES: You may submit comments by any of the following methods:

• Federal Rulemaking Website: Go to https://www.regulations.gov and search for Docket ID NRC-2020-0084. Address questions about NRC Docket IDs in Regulations.gov to Jennifer Borges; telephone: 301-287-9127; email: Jennifer.Borges@nrc.gov. For technical questions, contact the individual(s) listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Lynn Ronewicz, Office of Nuclear Reactor Regulation, telephone: 301-415-1927, email: lynn.ronewicz@nrc.gov, U.S. Nuclear Regulatory Commission, Washington, DC 20555-0001.

SUPPLEMENTARY INFORMATION:

I. Obtaining Information and Submitting Comments

A. Obtaining Information

Please refer to Docket ID NRC-2020-0084, facility name, unit number(s), docket number(s), application date, and subject when contacting the NRC about the availability of information for this action. You may obtain publicly-available information related to this action by any of the following methods:

• Federal Rulemaking Website: Go to https://www.regulations.gov and search for Docket ID NRC-2020-0084.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2020-0084, facility name, unit number(s), docket number(s), application date, and subject in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensee's analyses provided, consistent with title 10 of the Code of Federal Regulations (10 CFR) section 50.91 is sufficient to support the proposed determination that these amendment requests involve No Significant Hazards Consideration (NSHC). Under the Commission's regulations in 10 CFR 50.92, operation of the facility in accordance with the proposed amendment would not (1) involve a significant increase in the probability or consequences of an accident previously evaluated; or (2) create the possibility of a new or different kind of accident from any accident previously evaluated; or (3) involve a significant reduction in a margin of safety.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves NSHC. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final NSHC determination, any hearing will take place after issuance. The Commission expects that the need to take action on an amendment before 60 days have elapsed will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The table below provides the plant name, docket number, date of application, ADAMS accession number, and location in the application of the licensee's proposed NSHC determination. For further details with respect to these license amendment applications, see the application for amendment which is available for public inspection in ADAMS and at the NRC's PDR. For additional direction on accessing information related to this document, see the “Obtaining Information and Submitting Comments” section of this document.

Table 1—License Amendment Request(s)
Energy Northwest; Columbia Generating Station; Benton County, WA
Application Date | January 27, 2020.
ADAMS Accession No. | ML20030C062.
Location in Application of NSHC | Page 3 of Attachment 1.
Brief Description of Amendments | The proposed amendment would adopt Technical Specifications Task Force (TSTF) Traveler TSTF-566, “Revise Actions for Inoperable RHR [Residual Heat Removal] Shutdown Cooling Subsystems,” and would revise the applicability of Technical Specification actions when an RHR shutdown cooling subsystem is inoperable.
Proposed Determination | NSHC.
Name of Attorney for Licensee, Mailing Address | Kathleen Galioto, Assistant General Counsel, Energy Northwest, MD PE13, P.O. Box 968, Richland, WA 99352.
Docket Nos. | 50-397.
NRC Project Manager, Telephone Number | L. John Klos, 301-415-5136.
Energy Northwest; Columbia Generating Station; Benton County, WA
Application Date | January 27, 2020.
ADAMS Accession No. | ML20027D541.
Location in Application of NSHC | Page 2 of Enclosure 1.
Brief Description of Amendments | The proposed amendment would adopt Technical Specifications Task Force (TSTF) Traveler TSTF-564, “Safety Limit MCPR [Minimum Power Critical Ratio],” Revision 2, which would revise the Technical Specification safety limit on MCPR and reduce the need for cycle-specific changes to that value while maintaining compliance with the regulatory requirements for safety limits.
Proposed Determination | NSHC.
Name of Attorney for Licensee, Mailing Address | Kathleen Galioto, Assistant General Counsel, Energy Northwest, MD PE13, P.O. Box 968, Richland, WA 99352.
Docket Nos. | 50-397.
NRC Project Manager, Telephone Number | L. John Klos, 301-415-5136.
Entergy Operations, Inc., System Energy Resources, Inc., Cooperative Energy, A Mississippi Electric Cooperative, and Entergy Mississippi, LLC; Grand Gulf Nuclear Station, Unit 1; Claiborne County, MS, Entergy Louisiana, LLC and Entergy Operations, Inc.; River Bend Station, Unit 1; West Feliciana Parish, LA
Application Date | February 26, 2020.
ADAMS Accession No. | ML20057G004.
Location in Application of NSHC | Page 3 of the Enclosure.
Brief Description of Amendments | The proposed amendments would revise the Technical Specifications (TSs) to adopt Technical Specifications Task Force (TSTF) Traveler TSTF-501, “Relocate Stored Fuel Oil and Lube Oil Volume Values to Licensee Control,” Revision 1 (ADAMS Accession Nos. ML090510686 and ML100850094), for Grand Gulf Nuclear Station, Unit 1 (Grand Gulf), and River Bend Station, Unit 1 (River Bend). The amendments would revise Grand Gulf and River Bend TS 3.8.3, “Diesel Fuel Oil, Lube Oil, and Starting Air,” by removing the current stored diesel fuel oil and lube oil numerical volume requirements from the TSs and placing them in the TS Bases so that they may be modified under licensee control. The TSs would also be revised such that the stored diesel fuel oil and lube oil inventory would require that a 7-day supply be available for each diesel generator at Grand Gulf and River Bend. Corresponding surveillance requirements and TS Bases would also be revised to reflect the above changes.
Proposed Determination | NSHC.
Name of Attorney for Licensee, Mailing Address | Anna Vinson Jones, Senior Counsel, Entergy Services, Inc., 101 Constitution Avenue NW, Suite 200 East, Washington, DC 20001.
Docket Nos. | 50-416, 50-458.
NRC Project Manager, Telephone Number | Siva Lingam, 301-415-1564.
Entergy Operations, Inc., System Energy Resources, Inc., Cooperative Energy, A Mississippi Electric Cooperative, and Entergy Mississippi, LLC; Grand Gulf Nuclear Station, Unit 1; Claiborne County, MS
Application Date | February 19, 2020.
ADAMS Accession No. | ML20050R656.
Location in Application of NSHC | Pages 111-113 of the Enclosure.
Brief Description of Amendments | The proposed amendment would revise Technical Specification (TS) 5.5.12, “10 CFR 50, Appendix J, Testing Program,” to allow for the permanent extension of the Type A integrated leak rate testing. The amendment also proposes to make administrative changes to TS 5.5.12 to delete the already performed Type A test, and TS Surveillance Requirement (SR) 3.6.5.1.1 to delete the already performed drywell bypass leak rate test. In addition, the amendment would revise SRs 3.6.1.1.1 and 3.6.1.2.1, and TS 5.5.12 to align with NUREG-1434, Volume 1, Revision 4, “Standard Technical Specifications General Electric BWR/6 Plants.”
Proposed Determination | NSHC.
Name of Attorney for Licensee, Mailing Address | Anna Vinson Jones, Senior Counsel, Entergy Services, Inc., 101 Constitution Avenue NW, Suite 200 East, Washington, DC 20001.
Docket Nos. | 50-416.
NRC Project Manager, Telephone Number | Siva Lingam, 301-415-1564.
Exelon Generation Company, LLC; Dresden Nuclear Power Station, Units 2 and 3; Grundy County, IL
Application Date | October 21, 2019.
ADAMS Accession No. | ML19294A304.
Location in Application of NSHC | Attachment 1, Pages 24-26.
Brief Description of Amendments | The proposed amendments would alter Technical Specification 3.6.1.3, “Primary Containment Isolation Valves (PCIVs),” and Surveillance Requirement 3.6.1.3.10 by revising the combined main steam isolation valve leakage rate limits. These proposed changes are based on a revision of the alternate source term analysis of the radiological consequences of the design-basis loss-of-coolant accident. The proposed change is consistent with Technical Specifications Task Force Traveler (TSTF)-551, “Revise Secondary Containment Surveillance Requirements,” Revision 3, which was approved by the NRC on September 21, 2017.
Proposed Determination | NSHC.
Name of Attorney for Licensee, Mailing Address | Tamra Domeyer, Associate General Counsel, Exelon Generation Company, LLC, 4300 Winfield Road, Warrenville, IL 60555.
Docket Nos. | 50-237, 50-249.
NRC Project Manager, Telephone Number | Russell Haskell, 301-415-1129.
Exelon Generation Company, LLC; LaSalle County Station, Units 1 and 2; LaSalle County, IL
Application Date | January 31, 2020.
ADAMS Accession No. | ML20035E577.
Location in Application of NSHC | Pages 5 and 6 of Attachment 1.
Brief Description of Amendments | The proposed amendments would modify Technical Specification requirements to permit the use of risk-informed completion times in accordance with Technical Specifications Task Force Traveler (TSTF)-505, Revision 2, “Provide Risk-Informed Extended Completion Times—RITSTF Initiative 4b.”
Proposed Determination | NSHC.
Name of Attorney for Licensee, Mailing Address | Tamra Domeyer, Associate General Counsel, Exelon Generation Company, LLC, 4300 Winfield Road, Warrenville, IL 60555.
Docket Nos. | 50-373, 50-374.
NRC Project Manager, Telephone Number | Bhalchandra Vaidya, 301-415-3308.
Exelon Generation Company, LLC; LaSalle County Station, Units 1 and 2; LaSalle County, IL
Application Date | January 31, 2020.
ADAMS Accession No. | ML20031E699.
Location in Application of NSHC | Enclosure, Pages 26 and 27.
Brief Description of Amendments | The proposed amendments would modify the licensing basis by the addition of a license condition to allow for the implementation of the provisions of 10 CFR Section 50.69, “Risk-informed categorization and treatment of structures, systems and components for nuclear power reactors.”
Proposed Determination | NSHC.
Name of Attorney for Licensee, Mailing Address | Tamra Domeyer, Associate General Counsel, Exelon Generation Company, LLC, 4300 Winfield Road, Warrenville, IL 60555.
Docket Nos. | 50-373, 50-374.
NRC Project Manager, Telephone Number | Bhalchandra Vaidya, 301-415-3308.
Northern States Power Company; Monticello Nuclear Generating Plant; Wright County, MN; Northern States Power Company—Minnesota; Prairie Island Nuclear Generating Plant, Unit Nos. 1 and 2; Goodhue County, MN
Application Date | February 27, 2020.
ADAMS Accession No. | ML20058F943.
Location in Application of NSHC | Attachment 1, Pages 3 and 4.
Brief Description of Amendments | The proposed amendment would modify Technical Specification requirements in Section 1.3 and Section 3.0 regarding Limiting Condition for Operation and Surveillance Requirement usage. These changes are consistent with NRC-approved Technical Specifications Task Force (TSTF) Traveler TSTF-529, “Clarify Use and Application Rules,” Revision 4.
Proposed Determination | NSHC.
Name of Attorney for Licensee, Mailing Address | Peter M. Glass, Assistant General Counsel, Xcel Energy, 414 Nicollet Mall—401-8, Minneapolis, MN 55401.
Docket Nos. | 50-263, 50-282, 50-306.
NRC Project Manager, Telephone Number | Robert Kuntz, 301-415-3733.
Tennessee Valley Authority; Sequoyah Nuclear Plant, Units 1 and 2; Hamilton County, TN
Application Date | February 24, 2020.
ADAMS Accession No. | ML20056C857.
Location in Application of NSHC | Page 24 of the Enclosure.
Brief Description of Amendments | The proposed amendments would modify the Technical Specifications to reduce the steam generator tube inspection frequency.
Proposed Determination | NSHC.
Name of Attorney for Licensee, Mailing Address | Sherry Quirk, Executive VP and General Counsel, Tennessee Valley Authority, 400 West Summit Hill Drive, WT 6A, Knoxville, TN 37902.
Docket Nos. | 50-327.
NRC Project Manager, Telephone Number | Perry Buckberg, 301-415-1383.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action, see (1) the application for amendment; (2) the amendment; and (3) the Commission's related letter, Safety Evaluation, and/or Environmental Assessment as indicated. All of these items can be accessed as described in the “Obtaining Information and Submitting Comments” section of this document.

Table 2—License Amendment Issuance(s)
Dominion Energy South Carolina, Inc.; Virgil C. Summer Nuclear Station, Unit 1; Fairfield County, SC
Date Issued | 3/6/2020
ADAMS Accession No. | ML19305A005
Amendment Nos. | 217
Brief Description of Amendments | The amendment revised license conditions and approved changes to plant modifications evaluated using fire probabilistic risk assessment. The amendment also approved performance-based alternatives to National Fire Protection Association (NFPA) 805, Section 3.3.4, “Insulation Materials,” and Section 3.3.5.1, “Wiring above Suspended Ceilings.”
Docket Nos. | 50-395.
Duke Energy Progress, LLC; Brunswick Steam Electric Plant, Units 1 and 2; Brunswick County, NC
Date Issued | March 6, 2020.
ADAMS Accession No. | ML20073F186.
Amendment Nos. | 299 (Unit 1) and 327 (Unit 2).
Brief Description of Amendments | The amendments allow application of the Framatome analysis methodologies necessary to support a planned transition to ATRIUM 11 fuel under the currently licensed Maximum Extended Load Line Limit Analysis Plus (MELLLA+) operating domain.
Docket Nos. | 50-325, 50-324.
Energy Northwest; Columbia Generating Station; Benton County, WA
Date Issued | 3/10/2020.
ADAMS Accession No. | ML20037A733.
Amendment Nos. | 256.
Brief Description of Amendments | The amendment removed License Condition 2.C.(11), “Shield Wall Deferral (Section 12.3.2, SSER #4, License Amendment #7),” and its related Attachment 3, “List of Shield Walls,” from the renewed facility operating license because these items are outdated and not applicable to Columbia's operation.
Docket Nos. | 50-397.
Entergy Operations, Inc.; Arkansas Nuclear One, Unit 1; Pope County, AR
Date Issued | March 16, 2020.
ADAMS Accession No. | ML20034E874.
Amendment Nos. | 268.
Brief Description of Amendments | The amendment adopted Technical Specifications Task Force (TSTF) Traveler TSTF-439, Revision 2, “Eliminate Second Completion Times Limiting Time from Discovery of Failure to Meet an LCO [Limiting Condition for Operation].”
Docket Nos. | 50-313.
Exelon FitzPatrick, LLC and Exelon Generation Company, LLC; James A. FitzPatrick Nuclear Power Plant, LLC; Oswego County, NY
Date Issued | March 2, 2020.
ADAMS Accession No. | ML20024C661.
Amendment Nos. | 332.
Brief Description of Amendments | The amendment adopted Technical Specifications Task Force (TSTF) Traveler TSTF-568, Revision 2, “Revise Applicability of BWR [Boiling Water Reactor]/4 TS [Technical Specification] 3.6.2.5 and TS 3.6.3.2,” using the Consolidated Line Item Improvement Process. Specifically, the amendment revised FitzPatrick TS 3.6.2.4, “Drywell-to-Suppression Chamber Differential Pressure,” and TS 3.6.3.1, “Primary Containment Oxygen Concentration,” and presents the requirements in a manner more consistent with the Standard Technical Specifications format and content.
Docket Nos. | 50-333.
Exelon Generation Company, LLC; Braidwood Station, Units 1 and 2; Will County, IL; Exelon Generation Company, LLC; Byron Station, Unit Nos. 1 and 2, Ogle County, IL; Exelon Generation Company, LLC; Calvert Cliffs Nuclear Power Plant, Unit Nos. 1 and 2; Calvert County, MD; Exelon Generation Company, LLC, Clinton Power Station, Unit No. 1, DeWitt County, IL; Exelon Generation Company, LLC; Dresden Nuclear Power Station, Units 2 and 3; Grundy County, IL; Exelon Generation Company, LLC and Exelon FitzPatrick, LLC; James A. FitzPatrick Nuclear Power Plant; Oswego County, NY; Exelon Generation Company, LLC, LaSalle County Station, Units 1 and 2; LaSalle County, IL; Exelon Generation Company, LLC; Limerick Generating Station, Units 1 and 2; Montgomery County, PA; Exelon Generation Company, LLC; Nine Mile Point Nuclear Station, Units 1 and 2; Oswego County, NY; Exelon Generation Company, LLC and PSEG Nuclear LLC; Peach Bottom Atomic Power Station, Units 2 and 3; York and Lancaster Counties, PA; Exelon Generation Company, LLC; Quad Cities Nuclear Power Station, Units 1 and 2; Rock Island County, IL; Exelon Generation Company, LLC; R. E. Ginna Nuclear Power Plant; Wayne County, NY
Date Issued | March 12, 2020.
ADAMS Accession No. | ML20034G546.
Amendment Nos. | Braidwood (207/207), Byron (213/213), Calvert Cliffs (334/312), Clinton (229), Dresden (266/259), FitzPatrick (333), LaSalle (242/228), Limerick (243/206), Nine Mile Point (241/179), Peach Bottom (332/335), Quad Cities (279/274), and R. E. Ginna (138).
Brief Description of Amendments | The amendments revised the instrument testing and calibration definitions in the technical specifications for each facility to incorporate the surveillance frequency control program. The amendments are based on Technical Specifications Task Force (TSTF) Traveler TSTF-563, Revision 0, “Revise Instrument Testing Definitions to Incorporate the Surveillance Frequency Control Program” (ADAMS Accession No. ML17130A819).
Docket Nos. | 50-456, 50-457, 50-454, 50-455, 50-317, 50-318, 50-461, 50-237, 50-249, 50-333, 50-373, 50-374, 50-352, 50-353, 50-220, 50-410, 50-277, 50-278, 50-254, 50-265, 50-244.
Exelon Generation Company, LLC; Limerick Generating Station, Units 1 and 2; Montgomery County, PA
Date Issued | March 11, 2020.
ADAMS Accession No. | ML19345D984.
Amendment Nos. | 242 (Unit 1) and 205 (Unit 2).
Brief Description of Amendments | The amendments removed Technical Specification (TS) ¾.3.7.8.1, “Chlorine Detection System”; TS ¾.3.7.8.2, “Toxic Gas Detection System”; and Surveillance Requirement 4.7.2.1.e.2, which require verification of realignment of the control room emergency fresh air supply system upon detection of chorine or toxic gases.
Docket Nos. | 50-352, 50-353.
Exelon Generation Company, LLC; Limerick Generating Station, Units 1 and 2; Montgomery County, PA
Date Issued | March 11, 2020.
ADAMS Accession No. | ML19351E376.
Amendment Nos. | 241 (Unit 1) and 204 (Unit 2).
Brief Description of Amendments | The amendments revised Technical Specification (TS) 6.8.4.g, “Primary Containment Leakage Rate Testing Program,” to adopt Nuclear Energy Institute (NEI) 94-01, Revisions 2-A and 3-A. Specifically, the amendments allowed the maximum interval for the integrated leakage rate test, also known as Type A test, to be extended permanently from once in 10 years to once in 15 years, and made an administrative change to remove the exception under TS 6.8.4.g regarding the performance of the next Units 1 and 2 Type A test no later than May 15, 2013, and May 21, 2014, respectively, as these Type A tests have already occurred.
Docket Nos. | 50-352, 50-353.
PSEG Nuclear LLC; Salem Nuclear Generating Station, Unit Nos. 1 and 2; Salem County, NJ
Date Issued | 3/12/2020.
ADAMS Accession No. | ML20042F101.
Amendment Nos. | 334 (Unit No. 1) and 315 (Unit No. 2).
Brief Description of Amendments | The amendments relocated Salem, Unit Nos. 1 and 2, Technical Specifications ¾.9.3, “Decay Time,” and ¾.9.12, “Fuel Handling Area Ventilation System,” to the Salem Technical Requirements Manual.
Docket Nos. | 50-272, 50-311.
R. E. Ginna Nuclear Power Plant, LLC and Exelon Generation Company, LLC; R. E. Ginna Nuclear Power Plant; Wayne County, NY
Date Issued | March 11, 2020.
ADAMS Accession No. | ML20044D072.
Amendment Nos. | 137.
Brief Description of Amendments | The amendment revised Technical Specification 3.7.1, “Main Steam Safety Valves (MSSVs),” Surveillance Requirement 3.7.1.1 to increase the allowable as-found main steam safety valves lift setpoint tolerance from +1 percent, −3 percent to +1.4 percent, −4 percent for valve numbers 3508, 3509, 3510, 3511, 3512, and 3515.
Docket Nos. | 50-244.

Notice of Issuance of Amendments to Facility Operating Licenses and Combined Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR chapter I, which are set forth in the license amendment.

Because of exigent or emergency circumstances associated with the date the amendment was needed, there was not time for the Commission to publish, for public comment before issuance, its usual notice of consideration of issuance of amendment, proposed NSHC determination, and opportunity for a hearing.

For exigent circumstances, the Commission has either issued a Federal Register notice providing opportunity for public comment or has used local media to provide notice to the public in the area surrounding a licensee's facility of the licensee's application and of the Commission's proposed determination of NSHC. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its NSHC determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that NSHC is involved.

The Commission has applied the standards of 10 CFR 50.92 and has made a final determination that the amendment involves NSHC. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License or Combined License, as applicable, and (3) the Commission's related letter, Safety Evaluation and/or Environmental Assessment, as indicated. All of these items can be accessed as described in the “Obtaining Information and Submitting Comments” section of this document.

Previously Published Notice of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, including the applicable notice period, see the individual notice in the Federal Register on the day and page cited.

Table 4—License Amendment Request(s)—Repeat of Individual Federal Register Notice
Exelon Generation Company, LLC; R.E. Ginna Nuclear Power Plant; Wayne County, NY
Application Date | February 25, 2020.
ADAMS Accession No. | ML20056E958.
Brief Description of Amendment | The amendment revised Technical Specifications 3.4.7, “RCS [Reactor Coolant System] Loops—MODE 5, Loops Filled”; 3.4.8, “RCS Loops—MODE 5, Loops Not Filled”; 3.9.4, “Residual Heat Removal (RHR) and Coolant Circulation—Water Level ≥23 Ft”; and 3.9.5, “Residual Heat Removal (RHR) and Coolant Circulation—Water Level <23 Ft,” to add an asterisk to allow the use of alternative means for residual heat removal. This one-time change was requested to support Ginna in the shutdown of the reactor during the upcoming refueling outage scheduled to start in April 2020.
Date & Cite of Federal Register Individual Notice | 3/2/2020; 85 FR 12349.
Expiration Dates for Public Comments & Hearing Requests | 4/1/2020 (comments); 5/1/2020 (petitions).
Docket Nos. | 50-244.

Dated at Rockville, Maryland, this 25th day of March, 2020.
For the Nuclear Regulatory Commission.
Gregory F. Suber,
Deputy Director, Division of Operating Reactor Licensing, Office of Nuclear Reactor Regulation.

[FR Doc. 2020-06624 Filed 4-6-20; 8:45 am]

BILLING CODE 7590-01-P